DEPARTMENT OF HOMELAND SECURITY

Coast Guard

33 CFR Part 117

[Docket No. USCG-2016-1063]

Drawbridge Operation Regulation; Reynolds Channel, Nassau County, NY

AGENCY: Coast Guard, DHS.

ACTION: Notice of deviation from drawbridge regulation.

SUMMARY: The Coast Guard has issued a temporary deviation from the operating schedule that governs the Long Beach Bridge, mile 4.7, across Reynolds Channel, at Nassau County, New York. This temporary deviation is necessary to temporarily increase staffing flexibility. This deviation allows the bridge to be opened with a four-hour advanced notice during the hours of 5 p.m. on December 23, 2016, to 7 a.m. on December 26, 2016 and from 5 p.m. on December 30, 2016, to 7 a.m. on January 2, 2017.

DATES: This deviation is effective from 5 p.m. on December 23, 2016 to 7 a.m. on January 2, 2017.

ADDRESSES: The docket for this deviation, [USCG-2016-1063] is available at http://www.regulations.gov. Type the docket number in the “SEARCH” box and click “SEARCH”. Click on Open Docket Folder on the line associated with this deviation.

FOR FURTHER INFORMATION CONTACT: If you have questions on this temporary deviation, call or email Ms. Judy K. Leung-Yee, Project Officer, First Coast Guard District, telephone (212) 514-4330, email judy.k.leung-yee@uscg.mil.

SUPPLEMENTARY INFORMATION: The Long Beach Bridge, mile 4.7, across Reynolds Channel has a vertical clearance in the closed position of 22 feet at mean high water and 24 feet at mean low water. The existing bridge operating regulations are found at 33 CFR 117.799(g).

Reynolds Channel is transited by commercial and recreational traffic.

The bridge owner, Nassau County Department of Public Works, requested a temporary deviation from the normal operating schedule to increase staffing flexibility during this period. Historical data shows the bridge has not received a request to open during these dates and times in the last three years.

Under this temporary deviation, the Long Beach Bridge shall open on signal from 5 p.m. on December 23, 2016, to 7 a.m. on December 26, 2016 and from 5 p.m. on December 30, 2016, to 7 a.m. on January 2, 2017, if at least four-hour advance notice is given by calling the number posted at the bridge.

Vessels able to pass under the bridge in the closed position may do so at anytime. The bridge will not be able to immediately open for emergencies and there are no alternate routes for vessels to pass.

The Coast Guard will also inform the users of the waterways through our Local and Broadcast Notices to Mariners of the change in operating schedule for the bridge so that vessels can arrange their transits to minimize any impact caused by the temporary deviation.

This deviation from the operating regulations is authorized under 33 CFR 117.35. In accordance with 33 CFR 117.35(e), the drawbridge must return to its regular operating schedule immediately at the end of the effective period of this temporary deviation.

Dated: December 19, 2016.
C.J. Bisignano,
Supervisory Bridge Management Specialist, First Coast Guard District.

[FR Doc. 2016-30864 Filed 12-21-16; 8:45 am]

BILLING CODE 9110-04-P